DEPARTMENT OF LABOR

Employment and Training Administration

[TA-W-53,321]

Charter Fabrics, Inc., New York, NY; Notice of Revised Determination of Alternative Trade Adjustment Assistance on Remand

On February 14, 2006, the U.S. Court of International Trade (USCIT) granted the Department's motion for voluntary remand in Former Employees of Charter Fabrics, Inc. v. United States Secretary of Labor, Court No. 05-00652.

A negative determination regarding the subject workers' eligibility to apply for Alternative Trade Adjustment Assistance (ATAA) was issued on September 7, 2005. The determination stated that the investigation revealed that the skills of the worker group were easily transferable to other positions in the local commuting area.

During the remand investigation, the Department contacted the human resources official at the subject firm for information related to the ATAA investigation. Information provided by this company official revealed that there were few available jobs in the local area and in the industry at the time of separation.

At least five percent of the workforce at the subject firm is at least fifty years of age. Workers possess skills that are not easily transferable. Competitive conditions within the industry are adverse.

Conclusion

After careful review of the additional facts obtained on reconsideration, I conclude that the requirements of Section 246 of the Trade Act of 1974, as amended, have been met for workers at the subject firm.

In accordance with the provisions of the Act, I make the following certification:

“All workers of Charter Fabrics, Inc., New York, New York, who became totally or partially separated from employment on or after September 29, 2002 through December 31, 2005, are eligible to apply for adjustment assistance under section 223 of the Trade Act of 1974, and are also eligible to apply for alternative trade adjustment assistance under section 246 of the Trade Act of 1974.”

Signed in Washington, DC, this 2nd day of March 2006.
Elliott S. Kushner,
Certifying Officer, Division of Trade Adjustment Assistance.

[FR Doc. E6-4135 Filed 3-21-06; 8:45 am]

BILLING CODE 4510-30-P